DEPARTMENT OF THE TREASURY

Internal Revenue Service

26 CFR Parts 40 and 301

[TD 9507]

RIN 1545-BJ13

Electronic Funds Transfer of Depository Taxes; Correction

AGENCY: Internal Revenue Service (IRS), Treasury.

ACTION: Correcting amendment.

SUMMARY: This document contains corrections to final regulations (TD 9507) that were published in the Federal Register on Tuesday, December 7, 2010 (75 FR 75897) providing guidance relating to Federal tax deposits (FTDs) by Electronic Funds Transfer (EFT). The temporary and final regulations provide rules under which depositors must use EFT for all FTDs and eliminate the rules regarding FTD coupons.

DATES: This correction is effective on January 6, 2011 and is applicable in taxable years ending on or after December 31, 2010.

FOR FURTHER INFORMATION CONTACT: Michael E. Hara, (202) 622-4910 (not a toll-free number).

SUPPLEMENTARY INFORMATION:

Background

The final regulations that are the subject of this document is under section 6302 of the Internal Revenue Code.

Need for Correction

As published, the final regulations (TD 9507) contain errors that may prove to be misleading and are in need of clarification.

List of Subjects

26 CFR Part 40

Excise taxes, Reporting and recordkeeping requirements.

26 CFR Part 301

Employment taxes, Estate taxes, Excise taxes, Gift taxes, Income taxes, Penalties, Reporting and recordkeeping requirements.

Correction of Publication

Accordingly, 26 CFR parts 40 and 301 are corrected by making the following correcting amendments:

PART 40—EXCISE TAX PROCEDURAL REGULATIONS

Paragraph 1. The authority citation for part 40 continues to read in part as follows:

Authority: 26 U.S.C. 7805 * * *

§ 40.6302(c)-3 [Amended]

Par. 2. Section 40.6302(c)-3, paragraph (c) is amended by removing the language in the third sentence “ “legal holiday” ” and adding in its place “legal holiday.”

PART 301—PROCEDURE AND ADMINISTRATION

Par. 3. The authority citation for part 301 continues to read in part as follows:

Authority: 26 U.S.C. 7805 * * *

Par. 4. Part 301 is amended by revising the authority paragraph to read as follows:

PART 301—PROCEDURE AND ADMINISTRATION

Par. 21. The authority citation for part 301 continues to read in part as follows:

Authority: 26 U.S.C. 7805 * * *

* * * * *

Guy Traynor,
Federal Register Liaison, Publications and Regulations Branch, Legal Processing Division, Associate Chief Counsel, Procedure and Administration.

[FR Doc. 2010-33354 Filed 1-5-11; 8:45 am]

BILLING CODE 4830-01-P